ENVIRONMENTAL PROTECTION AGENCY

40 CFR Part 52

[EPA-R04-OAR-2018-0116; FRL-9980-80—Region 4]

Air Plan Approval; Georgia; Revisions to VOC Definitions and Ambient Air Quality Standards

AGENCY: Environmental Protection Agency.

ACTION: Proposed rule.

SUMMARY: On November 13, 2017, the State of Georgia through the Georgia Environmental Protection Division (EPD), submitted revisions to the Georgia State Implementation Plan (SIP). The Environmental Protection Agency (EPA) is proposing to approve SIP revisions, which modify the State's air quality regulations as incorporated into the SIP. Specifically, the revisions pertain to definition changes, including the modification of the definition of “volatile organic compounds,” (VOC) and changes to the State's air quality standards for sulfur dioxide (SO2), particulate matter (both PM2.5 and PM10), carbon monoxide (CO), ozone (O3), lead (Pb) and nitrogen dioxide (NO2) to be consistent with the National Ambient Air Quality Standards (NAAQS). EPA is proposing to approve these provisions of the SIP revisions because the State has demonstrated that these changes are consistent with the Clean Air Act (CAA or Act).

DATES: Comments must be received on or before August 16, 2018.

ADDRESSES: Submit your comments, identified by Docket ID No. EPA-R04-OAR-2018-0116 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Tiereny Bell, Air Regulatory Management Section, Air Planning and Implementation Branch, Air, Pesticides and Toxics Management Division, U.S. Environmental Protection Agency, Region 4, 61 Forsyth Street SW, Atlanta, Georgia 30303-8960. The telephone number is (404) 562-9088. Ms. Bell can also be reached via electronic mail at bell.tiereny@epa.gov.

I. Background

In this rulemaking, EPA is proposing to approve changes into the Georgia SIP, submitted by the State on November 13, 2017. The submission revises Rule 391-3-1-.01, “Definitions” by adding t-Butyl acetate (also known as tertiary butyl acetate or TBAC) and 1,1,2,2-Tetrafluoro-1-(2,2,2-trifluoroethoxy) ethane to the list of organic compounds having negligible photochemical reactivity. The definition of VOC is also being updated by removing the recordkeeping requirements for t-Butyl acetate. Finally, the definition of VOC is being revised to include chemical names to clarify previous exemptions. EPA is also proposing to approve changes into the Georgia SIP to amend Rule 391-3-1-.02(4), “Ambient Air Standards,” by updating Georgia's air quality standard to be consistent with the NAAQS. The submittal by the State can be found in the docket for this rulemaking at www.regulations.gov and is further summarized below. Also on November 29, 2017, EPD submitted a separate SIP revision to make changes to Rule 391-3-1-.03(6), “Exemption” under Permits and Rule 391-3-1-.02(7)(a)(1), “General Requirements” under Prevention of Significant Deterioration (PSD). EPA will address these changes in a separate notice. Additionally, EPD withdrew from EPA's consideration, Rule 391-3-1-.02(7)(a)2(ix), “Regulated NSR pollutant” under PSD, and Rule 391-3-1-.03(8)(c)(16), “Additional Provisions for PM2.5 Non-Attainment Areas” under Permits.¹

¹ The State withdrew Rule 391-3-1-.02(7)(a)2(ix), “Regulated NSR pollutant” and Rule 391-3-1-.03(8)(c)(16), “Additional Provisions for PM2.5 Non-Attainment Areas” on December 1, 2016, and July 26, 2017, respectively. The State also acknowledges this in the response to comment of the pre-hearing in the November 13, 2017, submittal. The information is in the Docket.

II. EPA's Analysis of Georgia's SIP Revisions

a. Revisions to Definitions

Tropospheric ozone, commonly known as smog, occurs when VOC and nitrogen oxides (NOX) react in the atmosphere in the presence of sunlight. Because of the harmful health effects of ozone, EPA and state governments implement rules to limit the amount of certain VOC and NOX that can be released into the atmosphere. VOC have different levels of reactivity; they do not react at the same speed or do not form ozone to the same extent. Section 302(s) of the CAA specifies that EPA has the authority to define the meaning of “VOC,” and hence what compounds shall be treated as VOC for regulatory purposes.

EPA determines whether a given carbon compound has “negligible” reactivity by comparing the compound's reactivity to the reactivity of ethane. It has been EPA's policy that compounds of carbon with negligible reactivity need not be regulated to reduce ozone and should be excluded from the regulatory definition of VOC. See 42 FR 35314 (July 8, 1977), 70 FR 54046 (September 13, 2005). EPA lists these compounds in its regulations at 40 CFR 51.100(s) and excludes them from the definition of VOC. The chemicals on this list are often called “negligibly reactive.” EPA may periodically revise the list of negligibly reactive compounds to add or delete compounds.

On November 29, 2004,² and August 1, 2016,³ EPA issued final rules revising the definition of VOC by adding new compounds, t-Butyl acetate and 1,1,2,2-Tetrafluoro-1-(2,2,2-trifluoroethoxy) ethane, to the list of those considered to be negligibly reactive compounds, and on February 25, 2016 (81 FR 9339), EPA issued a final rule removing recordkeeping, emissions reporting, photochemical dispersion modeling, and inventory requirements for t-Butyl acetate.⁴ The State's November 13, 2017, SIP revision adds t-Butyl acetate and 1,1,2,2-Tetrafluoro-1-(2,2,2-trifluoroethoxy) ethane to the list of negligibly reactive compounds to be consistent with federal and other similar SIP-approved regulations. They are excluded from the VOC definition on the basis that they make a negligible contribution to tropospheric ozone formation. The revision also removes the recordkeeping requirements for t-Butyl acetate and includes the addition of certain chemical names to clarify previous exemptions: Dichloromethane; HFE-7100; HFE-7200; HCOOCH3; and HFE-7300. EPA is proposing to approve this revision because it is consistent with the definition of VOC at 40 CFR 51.100(s).

² In EPA's November 29, 2004, final rulemaking, the Agency adds t-Butyl acetate to the list of excluded compounds from the definition of VOCs. See 69 FR 69298.

³ In EPA's August 1, 2016, final rulemaking, the Agency adds 1,1,2,2-Tetrafluoro-1-(2,2,2-trifluoroethoxy) ethane to the list of excluded compounds from the definition of VOCs. See 81 FR 50330.

⁴ EPA removed these requirements in part because there was no evidence that TBAC was being used at levels that cause concern for ozone formation and because the data that had been collected under these requirements had proven to be of limited utility in judging the cumulative impacts of exempted compounds. See 81 FR 9339.

Pursuant to CAA section 110(l), the Administrator shall not approve a revision of a plan if the revision would interfere with any applicable requirement concerning attainment and reasonable further progress, or any other applicable requirement of the Act. The State's addition of certain chemical names is approvable under section 110(l) because the revision merely clarifies previous exemptions. The State's addition of exemptions from the definition of VOCs, and the removal of recordkeeping, emissions reporting, photochemical dispersion modeling, and inventory requirements for t-Butyl acetate ⁵ are approvable under section 110(l) because they reflect changes to Federal regulations based on findings that the exempted compounds are negligibly reactive, and additionally for t-Butyl acetate, that there was no evidence it was being used at levels that cause concern for ozone formation, and the data that had been collected under the recordkeeping, emissions reporting, photochemical dispersion modeling, and inventory requirements had proven to be of limited utility in judging it's cumulative impact.

⁵ This current proposed rulemaking does not, and is not intended to, reopen any prior final EPA rulemaking or findings made therein, including EPA's 2004 final rule (69 FR 69298) and EPA's 2016 final rule (81 FR 9339).

b. Updated NAAQS

The November 13, 2017, SIP submission revises the State's ambient air quality standards to reflect the historical and current NAAQS for SO2, PM10, PM2.5, CO, O3, Pb, and NO2. Specifically, the revisions add provisions related to the 2015 ozone NAAQS to the State's regulations, and modify language in the regulations to provide clarity and consistency with the NAAQS.

Sections 108 and 109 of the CAA govern the establishment, review, and revision, as appropriate, of the NAAQS to protect public health and welfare. The CAA requires periodic review of the air quality criteria—the science upon which the standards are based—and the standards themselves. EPA's regulatory provisions that govern the NAAQS are found at 40 CFR 50—National Primary and Secondary Ambient Air Quality Standards. In this rule, EPA is proposing to approve the portions of the revisions to the State of Georgia air quality regulations addressing Rule 391-3-1-.02(4), Ambient Air Standards, in the Georgia SIP, submitted by Georgia on November 13, 2017. Rule 391-3-1-.02(4) is amended by updating air quality standards to reflect the most recent NAAQS. The SIP submission amending the State of Georgia regulations to incorporate the most recent SO2, particulate matter (both PM2.5 and PM10), CO, O3, Pb and NO2 NAAQS can be found in the docket for this rulemaking at www.regulations.gov and is summarized below.

i. SO2

On June 22, 2010, EPA promulgated a revised primary SO2 NAAQS to an hourly standard of 75 parts per billion (ppb), based on a 3-year average of the annual 99th percentile of 1-hour daily maximum concentrations, and revoked the 24-hour SO2 NAAQS. See 75 FR 35520. Accordingly, in the November 13, 2017, SIP submission, Georgia revised Rule 391-3-1-.02(4)(b) to update its primary air quality standards for SO2 to be consistent with the NAAQS promulgated by EPA in 2010, with the exception of Rule 391-3-1-.02(4)(b)2 and 391-3-1-.02(4)(b)3.⁶ EPA is proposing to approve this change because it is consistent with the SO2 NAAQS as defined by EPA.

⁶ The former primary SO2 NAAQS set forth in 40 CFR 50.4 will continue to apply to an area until one year after the effective date of the designation of that area, pursuant to section 107 of the CAA, for the 2010 SO2 NAAQS set forth in § 50.17. Therefore, Georgia is asking that EPA not act on the SO2 NAAQS in Rule 391-3-1-.02(4)(b)2. and Rule 391-3-1-.02(4)(b)3 until final designations are complete for all areas in Georgia for the 2010 SO2 NAAQS.

ii. PM

On July 18, 1997, EPA promulgated a new 24-hour primary and secondary NAAQS for PM2.5 at a level of 65 micrograms per cubic meter (µg/m³), based on the 98th percentile of 24-hour PM2.5 concentrations averaged over three years. EPA also promulgated a new annual primary and secondary NAAQS for PM2.5 at a level of 15.0 µg/m³, based on the annual arithmetic mean averaged over three years. See 62 FR 38652. On October 17, 2006, EPA revised the 24-hour primary and secondary PM2.5 NAAQS to 35 µg/m³, based on the 98th percentile of 24-hour PM2.5 concentrations averaged over three years. At that same time, EPA revoked the annual PM10 NAAQS. See 71 FR 61144. On December 14, 2012, EPA revised the primary annual NAAQS for PM2.5 at a level of 12 µg/m³, based on the annual arithmetic mean averaged over three years. See 78 FR 3085; January 15, 2013. Accordingly, in the November 13, 2017, SIP submission, Georgia revised Rule 391-3-1-.02(4) to update its air quality standards for PM10 and PM2.5 to be consistent with the NAAQS promulgated by EPA in 1997, 2006, and 2012. EPA is proposing to approve this change because it is consistent with the PM10 and PM2.5 NAAQS as defined by EPA.

iii. CO

EPA initially established the NAAQS for CO on April 30, 1971. The standards were set at 9 parts per million (ppm), as an 8-hour average, and 35 ppm, as a 1-hour average, neither to be exceeded more than once per year. See 36 FR 8186. In 1985, EPA concluded its first periodic review of the criteria and standards for CO. EPA decided not to revise the existing primary standards and to revoke the secondary standard for CO. See 50 FR 37484 (September 13, 1985). On August 1, 1994, EPA concluded its second periodic review of the criteria and standards for CO by deciding that revisions to the CO NAAQS were not warranted at that time. Thus, the primary standards were retained at 9 ppm with an 8-hour averaging time, and 35 ppm with a 1-hour averaging time, neither to be exceeded more than once per year. See 59 FR 38906.⁷ On August 31, 2011, EPA issued a final rulemaking concluding that the CO NAAQS was still requisite to protect public health with an adequate margin of safety and thus retained the CO NAAQS. See 76 FR 542494. Accordingly, in the November 13, 2017, SIP submission, Georgia revised Rule 391-3-1-.02(4) to update its air quality standards for CO to be consistent with the current CO NAAQS. EPA is proposing to approve this change because it is consistent with the CO NAAQS as defined by EPA.

⁷ EPA initiated the next period review in 1997 but did not conduct rulemaking to complete the review.

iv. O3

On March 27, 2008, EPA promulgated a new 8-hour primary and secondary NAAQS for ozone at a level of 0.075 ppm (the 2008 8-hour Ozone NAAQS), based on an annual fourth-highest maximum 8-hour concentration averaged over three years. See 73 FR 16436. On October 26, 2015, EPA promulgated a new primary and secondary NAAQS for ozone at a level of 0.070 ppm (the 2015 8-hour Ozone NAAQS), based on an annual fourth-highest maximum 8-hour concentration averaged over three years. See 80 FR 65292. Accordingly, in the November 13, 2017, SIP submission, Georgia revised Rule 391-3-1-.02(4) to add the 2015 8-hour Ozone NAAQS promulgated by EPA in 2015. EPA is proposing to approve this change because it is consistent with the ozone NAAQS as defined by EPA.

v. Pb

On November 12, 2008, EPA promulgated a new 1-hour primary and secondary NAAQS for Pb at a level of 0.15 μg/m³, based on a rolling 3-month average. See 73 FR 66964. Accordingly, in the November 13, 2017, SIP submission, Georgia revised Rule 391-3-1-.02(4) to update its air quality standards for Pb to be consistent with the NAAQS promulgated by EPA in 2008. EPA is proposing to approve this change because it is consistent with the Pb NAAQS as defined by EPA.

vi. NO2

On February 9, 2010, EPA promulgated a new 1-hour primary NAAQS for NO2 at a level of 100 parts per billion (ppb), based on a 3-year average of the 98th percentile of the yearly distribution of 1-hour daily maximum concentrations. See 75 FR 6474. Accordingly, in the November 13, 2017, SIP submission, Georgia revised Rule 391-3-1-.02(4) to update its air quality standards for NO2 to be consistent with the NAAQS promulgated by EPA in 2010. EPA is proposing to approve this change because it is consistent with the NO2 NAAQS as defined by EPA.

EPA has reviewed the revisions to Rule 391-3-1-.02(4) in the November 13, 2017, SIP submission, including the NAAQS updates for SO2, PM10, PM2.5, CO, O3, Pb, and NO2, and has made the preliminary determination that these changes are consistent with the CAA. As mentioned above, EPA is proposing to approve these changes to the NAAQS into the Georgia SIP.

III. Incorporation by Reference

In this document, EPA is proposing to include in a final EPA rule regulatory text that includes incorporation by reference. In accordance with requirements of 1 CFR 51.5, EPA is proposing to incorporate by reference Georgia Rule 391-3-1-.01, “Definitions,” effective July 20, 2017, which revises the definition of VOC; and Rule 391-3-1-.02(4), “Ambient Air Standards,” effective July 20, 2017, which revises the State's ambient air quality standards to be consistent with the NAAQS. EPA has made, and will continue to make, these materials generally available through www.regulations.gov and at the EPA Region 4 Office (please contact the person identified in the For Further Information Contact section of this preamble for more information).

IV. Proposed Action

EPA is proposing to approve the State of Georgia's November 13, 2017, SIP revisions identified in section II above. These changes are consistent with the CAA.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: July 2, 2018.
Onis “Trey” Glenn, III,
Regional Administrator, Region 4.

[FR Doc. 2018-15147 Filed 7-16-18; 8:45 am]

BILLING CODE 6560-50-P